DEPARTMENT OF ENERGY

Federal Energy Regulatory Commission

[Docket No. RM07-10-000]

Transparency Provisions of Section 23 of the Natural Gas Act; Notice of Change to Filing Instructions

Take notice that the filing instructions for the FERC Form No. 552: Annual Report of Natural Gas Transactions ¹ have been updated to clarify what transactions must be reported in Line 2 of Page 6 of FERC Form No. 552, consistent with the revised NAESB WGQ standards ² incorporated by reference in Order No. 809.³ Specifically, the filing instructions now clarify that next-day natural gas transactions must be reported in Line 2 of Page 6 of FERC Form No. 552 using the Timely Nomination Cycle deadline for scheduling natural gas transportation of 1:00 p.m. Central Clock Time (CCT) rather than 11:30 a.m. CCT. There are no other changes to the FERC Form No. 552 filing instructions.

¹ See 18 CFR 260.401 (2017).

² See 18 CFR 284.12(a) and (b) (2017).

³ Coordination of the Scheduling Processes of Interstate Natural Gas Pipelines and Public Utilities, Order No. 809, FERC Stats. & Regs. 31,368 (2015).

The updated filing instructions are available at: http://www.ferc.gov/docs-filing/forms/form-552/form-552.pdf. For more information, please contact John Collins at (202) 502-8981, or email Form552@ferc.gov.

Dated: February 7, 2018.
Kimberly D. Bose,
Secretary.

[FR Doc. 2018-02966 Filed 2-13-18; 8:45 am]

BILLING CODE 6717-01-P